ENVIRONMENTAL PROTECTION AGENCY

[FRL-7510-8]

Clean Air Scientific Advisory Committee Science Advisory Board; National Ambient Air Monitoring Strategy (NAAMS) Subcommittee Notification of Public Advisory Committee Meetings

AGENCY: Environmental Protection Agency (EPA).

ACTION: Notice.

SUMMARY: The Environmental Protection Agency (EPA), Science Advisory Board (SAB), announces a public meeting and two publicly-accessible teleconferences of the Clean Air Scientific Advisory Committee (CASAC) to review the Agency's National Ambient Air Monitoring Strategy (NAAMS).

DATES: There are three CASAC NAAMS Subcommittee meetings or teleconferences:

(a) July 1, 2003: A publicly accessible teleconference will take place from 1 to 3 pm (Eastern Time) to address any outstanding questions that subcommittee members and others might have concerning the proposed charge to the NAAMS Subcommittee, the NAAMS review materials, and the logistics for the face-to-face meeting on July 8-9, 2003.

(b) July 8-9, 2003: A public meeting will take place July 8, from 9 a.m. to 5 p.m. (Eastern Time), and on July 9, from 9 a.m. to 3 p.m. (Eastern Time), at the EPA campus, Building C, Room C111-C, Research Triangle Park (RTP) North Carolina. A publicly-accessible teleconference line is available for the entire meeting.

(c) August 6, 2003: A publicly-accessible contingency conference call from 1 to 3 p.m. (Eastern Time), in the event that the NAAMS Subcommittee feels that it is necessary to discuss some remaining issues before completing its report.

Contact: Members of the public who wish to obtain the call-in numbers and access codes to participate in the aforementioned publicly-accessible teleconferences must contact Ms. Delores Darden, EPA Science Advisory Board Staff, at telephone/voice mail: (202) 564-2282, or via e-mail at: darden.delores@epa.gov.

FOR FURTHER INFORMATION CONTACT: Any member of the public who wants further information concerning the meeting or either teleconference, or who wishes to submit brief oral comments (10 minutes or less) must contact Mr. Fred Butterfield, Designated Federal Officer, EPA Science Advisory Board (1400A), U.S. Environmental Protection Agency, 1200 Pennsylvania Avenue, NW., Washington, DC 20460; telephone (202) 564-4561; FAX (202) 501-0582; or via e-mail at butterfield.fred@epa.gov. Request for oral comments must be in writing (e-mail, fax or mail) and received by Mr. Butterfield no later than noon Eastern Time five business days prior to the meeting or teleconferences in order to reserve time on the meeting agenda. Written comments (preferably via e-mail) should be sent to Mr. Butterfield by the same deadline so that the comments can be provided to the NAAMS Subcommittee prior to the meeting or teleconferences. General information concerning the CASAC or the EPA Science Advisory Board can be found on the EPA Web site at: http://www.epa.gov/sab.

SUPPLEMENTARY INFORMATION:

Summary

The Clean Air Scientific Advisory Committee was established by 42 U.S.C. 7409 to provide advice, information and recommendations on the scientific and technical aspects of issues related to the criteria for air quality standards, research related to air quality, sources of air pollution, and the strategies to attain and maintain air quality standards and to prevent significant deterioration of air quality. The NAAMS Subcommittee will report to the Administrator of EPA through the CASAC, which is administratively located under the EPA Science Advisory Board. The SAB was established by 42 U.S.C. 4365 to provide independent scientific and technical advice, consultation, and recommendations to the EPA Administrator on the technical basis for Agency positions and regulations. Both the CASAC and the SAB are Federal advisory committees chartered under the Federal Advisory Committee Act (FACA), as amended (5 U.S.C. App.). The CASAC NAAMS Subcommittee will comply with the provisions of FACA and all appropriate SAB procedural policies.

Background

States, local agencies and Tribes establish and operate the Nation's regulatory-based ambient air monitoring networks. These networks are funded in part with Federal grants and are managed nationally by the EPA. The network data are used to support:

(a) Designation of attainment and non-attainment areas with respect to the National Ambient Air Quality Standards (NAAQS);

(b) Dissemination of air quality information to the public;

(c) Development (and tracking progress of) emission reduction strategies;

(d) Characterization of long-term air quality trends; and

(e) Studies in health and atmospheric science disciplines.

The associated monitoring network, instrumentation and quality assurance requirements are included in 40 CFR parts 50, 53 and 58.

EPA has recently completed development of the final draft of the National Ambient Air Monitoring Strategy document under the direction of the National Monitoring Strategy Committee (NMSC), an intergovernmental partnership comprising representatives from EPA (i.e., the Office of Air Quality Planning and Standards (OAQPS), the Office of Research and Development (ORD) and Regional Offices), and State and local agencies and Tribes, i.e., the principal Federal grantee organizations that operate the majority of the monitoring networks. The NAAMS document contains technical information underlying planned revisions of the National Ambient Air Monitoring program. The Strategy proposes a restructuring of the national regulatory-based air monitoring networks—commonly referred to as National Air Monitoring Stations (NAMS), State or Local Air Monitoring Stations (SLAMS), and Photochemical Assessment Monitoring Stations (PAMS)—to accommodate emerging priorities of air programs, the public and the scientific community. Specifically, the NAAMS provides a series of proposed changes for network design and improvements, assessments of existing networks, incorporation of new measurement and information transfer technologies, and revisions both to the current quality assurance program and the monitoring regulations. The principal proposed changes include:

(a) A shift toward collocated multiple pollutant monitoring stations under a new national monitoring network design referred to as “NCore.”

(b) Incorporation of new continuous particle monitoring instruments, additional air toxics measurements and information transfer technologies to enhance the scope of near-real-time data delivered to the public.

(c) Adoption of new network design recommendations and the introduction of advanced monitoring technologies through performance-based standards.

(d) Reductions in existing monitoring stations that provide limited value for public protection or air quality planning needs, with attendant resource savings redirected to meeting new measurement needs.

EPA intends to propose revisions to the monitoring regulations that have emerged from this strategy during 2003. A public comment period on the proposed regulations will be announced at a later date by EPA's Office of Air and Radiation. The NAAMS document is available through EPA's Ambient Monitoring Technology Information Center (AMTIC) Web site at the following URL address: http://www.epa.gov/ttn/amtic/stratmem.html. Any questions concerning the NAAMS should be directed to Dr. Richard Scheffe, EPA's OAQPS Monitoring and Quality Assurance Group Leader, at phone: (919) 541-4650; or e-mail: Scheffe.Rich@epamail.epa.gov.

Request for and Proposed Charge to the NAAMS Subcommittee

EPA's Office of Air and Radiation (OAR) has requested that the Clean Air Act Scientific Advisory Committee form a subcommittee to review the NAAMS document. The “Widecast” notice requesting nominations to this new NAAMS Subcommittee of the CASAC appeared in the Federal Register on November 5, 2002 (67 FR 67403), and noted that nominees should be recognized, national-level experts in one or more of the following disciplines: (a) Atmospheric sciences and air quality simulation modeling; (b) health effects and exposure; (c) air quality measurement science; or (d) State or local agency experience. This new CASAC subcommittee is charged with providing consultation to EPA on the technical bases and design aspects of the National Ambient Air Monitoring Strategy. In particular, the Subcommittee is asked to provide a formal consultation on the following elements of the strategy:

(a) The NCore proposal, including conceptual approach to tiered monitoring levels, recommended measurements and numbers and locations of Level 2 sites. Consideration to phasing of measurements included in Level 2 sites should be addressed based on currently available and expected emerging monitoring technologies. The Subcommittee is also requested to advise on the scope and breadth of research-grade Level 1 sites.

(b) The use of spatial analysis approaches for network design and other air program planning needs. The monitoring strategy has utilized various spatial design approaches on National and Regional scales to identify areas of redundant monitoring as well as gaps requiring additional monitoring.

(c) The use of performance-based approaches for standardizing monitoring method requirements for particulate matter measurements. Performance-based approaches rely on applying data quality objectives to determine the allowable statistical uncertainties for instrument performance. This third subject area has evolved from discussions with the existing CASAC Subcommittee on Particulate Monitoring, and plays an important role in facilitating accommodation of new technologies into air monitoring networks.

Availability of Additional Meeting Materials

Copies of the draft agendas for the meetings that are described in this notice will be posted on the SAB Web site (www.epa.gov/sab) (under the “Agendas” subheading) approximately 10 days before each NAAMS Subcommittee public meeting or teleconference. Other materials that may be available will also be posted on the SAB Web site during this time-frame.

Providing Oral or Written Comments at SAB Meetings

It is the policy of the EPA Science Advisory Board to accept written public comments of any length, and to accommodate oral public comments whenever possible. The EPA Science Advisory Board expects that public statements presented at its meetings will not be repetitive of previously-submitted oral or written statements.

Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting.

Written Comments: Although the SAB accepts written comments until the date of the meeting (unless otherwise stated), written comments should be received in the SAB Staff Office at least one week prior to the meeting date so that the comments may be made available to the committee for their consideration. Comments should be supplied to Mr. Butterfield at the address/contact information noted above in the following formats: One hard copy with original signature, and one electronic copy via e-mail (acceptable file format: Adobe Acrobat, WordPerfect, Word, or Rich Text files (in IBM-PC/Windows 95/98 format)). Those providing written comments and who attend the meeting are also asked to bring 35 copies of their comments for public distribution.

Meeting Access

Individuals requiring special accommodation at this meeting, including wheelchair access to the conference room, should contact Mr. Butterfield at the phone number or e-mail address noted above at least five business days prior to the meeting so that appropriate arrangements can be made.

Dated: June 4, 2003.
Vanessa T. Vu,
Director, EPA Science Advisory Board Staff Office.

[FR Doc. 03-14746 Filed 6-10-03; 8:45 am]

BILLING CODE 6560-50-P